DEPARTMENT OF ENERGY

Federal Energy Regulatory Commission

[Docket No. RP91-229-030]

Panhandle Eastern Pipe Line Company; Notice of Refund Request

July 18, 2000.

Take notice that on July 13, 2000, Panhandle Eastern Pipe Line Company (Panhandle) tendered for filing its Refund Report pursuant to the Commission's letter order issued May 31, 2000.

Panhandle states that it refunded on June 16, 2000 to its customers their appropriate pro rata share of the amounts which Panhandle received from Trunkline Gas Company pursuant to Section 3 of Article VIII of Trunkline's Settlement in Docket No. RP87-15-033, et al.

Panhandle further states it is submitting herein Appendix A to the filing, which reflects the amounts refunded to each affected customer on June 16, 2000.

Panhandle states that a copy of this information is being sent to all parties to the Docket No. RP91-229-000 proceeding and respective State Regulatory Commissions.

Any person desiring to protest said filing should file a protest with the Federal Energy Regulatory Commission, 888 First Street, NE, Washington, DC 20426, in accordance with section 385.211 of the Commission's rules and regulations. All such protests must be filed on or before July 25, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-18503 Filed 7-20-00; 8:45 am]

BILLING CODE 6717-01-M